DEPARTMENT OF DEFENSE

Office of the Secretary

[Transmittal Nos. 15-34]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-34 with attached transmittal, policy justification, and Sensitivity of Technology.

Dated: May 14, 2015.
Aaron Siegel,
Alternate OSD Federal Register Liaison Officer, Department of Defense.

Transmittal No. 15-34

Notice of Proposed Issuance of Letter of Offer Pursuant to Section 36(b)(1) of the Arms Export Control Act, as amended

(i) Prospective Purchaser: Government of Japan

(ii) Total Estimated Value:

Major Defense Equipment * | $192 million
Other | $7million
TOTAL | $199 million

(iii) Description and Quantity or Quantities of Articles or Services under Consideration for Purchase: Forty eight (48) UGM-84L Harpoon Block II Missiles, containers, spare and repair parts, support equipment, publications and technical documentation, personnel training and training equipment, U.S. Government and contractor logistics and technical support services, and other related elements of logistics and program support.

(iv) Military Department: Navy (ARV)

(v) Prior Related Cases, if any:

FMS case SAF-$2.2B-02May07

FMS case GQY-$358M-6May11

(vi) Sales Commission, Fee, etc., Paid, Offered, or Agreed to be Paid: None

(vii) Sensitivity of Technology Contained in the Defense Article or Defense Services Proposed to be Sold: See Attached Annex.

(viii) Date Report Delivered to Congress: 12 May 15

* as defined in Section 47(6) of the Arms Export Control Act.

POLICY JUSTIFICATION

Japan—UGM-84L Harpoon Block II Missiles

The Government of Japan has requested a possible sale of forty eight (48) UGM-84L Harpoon Block II Missiles, containers, spare and repair parts, support equipment, publications and technical documentation, personnel training and training equipment, U.S. Government and contractor logistics and technical support services, and other related elements of logistics and program support. The estimated cost is $199 million.

This proposed sale will contribute to the foreign policy and national security of the United States. Japan is one of the major political and economic powers in East Asia and the Western Pacific and a key partner of the United States in ensuring peace and stability in that region. It is vital to the U.S. national interest to assist Japan in developing and maintaining a strong and ready self-defense capability. This proposed sale is consistent with U.S. foreign policy and national security objectives and the 1960 Treaty of Mutual Cooperation and Security.

Japan intends to use the Harpoon Block II missiles to supplement its existing Harpoon missile capability. This sale will strengthen the capabilities of the Japan Maritime Self Defense Force and enhance its interoperability with U.S. Naval forces. Japan, which has Harpoon missiles in its inventory, will have no difficulty absorbing these additional missiles into its armed forces.

The proposed sale of this weapon system will not alter the basic military balance in the region.

The principal contractor will be The Boeing Company in St. Louis, Missouri. There are no known offset agreements in connection with this potential sale.

Implementation of this proposed sale will not require any additional U.S. Government or contractor personnel in Japan. However, U.S. Government or contractor personnel in-country visits will be required on a temporary basis in conjunction with program technical and management oversight and support requirements.

There will be no adverse impact on United States defense readiness as a result of this proposed sale.

Transmittal No. 15-34

Notice of Proposed Issuance of Letter of Offer Pursuant to Section 36(b)(1) of the Arms Export Control Act

Annex

Item No. vii

(vii) Sensitivity of Technology:

1. The UGM-84L Harpoon Block II missile is a submarine launched Anti-Surface Warfare (ASuW) missile that provides Naval forces with a capability to engage targets in both the “blue water” regions and the littorals of the world. The Harpoon Block II missile, including publications, documentation, operations, supply, maintenance, and training to be conveyed with this proposed sale have the highest classification level of Confidential.

2. The Harpoon Block II missile incorporates components, software, and technical design information that are considered sensitive. The following Harpoon Block II missile components being conveyed by the proposed sale that are considered sensitive and are classified Confidential include:

a. The Radar seeker

b. The Global Position System/Inertial Navigation System (GPS/INS)

c. Operational Flight Program (OFP) Software

d. Missile operational characteristics and performance data

These elements are essential to the ability of the Harpoon Block II missile to selectively engage hostile targets under a wide range of operational, tactical and environmental conditions.

3. If a technologically advanced adversary obtained knowledge of the specific hardware or software in the proposed sale, the information could be used to develop countermeasures which might reduce weapons system effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the Government of Japan.

[FR Doc. 2015-12153 Filed 5-19-15; 8:45 am]

BILLING CODE 5001-06-P